DEPARTMENT OF STATE

[Public Notice 5336]

Determination on U.S. Bilateral Assistance and International Financial Institution Voting for Projects in Serbia and the Entity of the Republika Srpska in Bosnia and Herzegovina

Pursuant to the authority vested in me by Section 561 of the Foreign Operations, Export Financing, and Related Programs Appropriations Act, 2006 (Pub. L. 109-102) (FOAA), I hereby waive the application of Section 561 of the FOAA with regard to certain U.S. bilateral assistance programs in Serbia and the Republika Srpska and determine that such assistance directly supports the implementation of the Dayton Accords. I also hereby waive the application of section 561 of the FOAA with regard to U.S. support for International Financial Institution projects in Serbia and the Republika Srpska that directly support the implementation of the Dayton Accords as decided by the Assistant Secretary for European and Eurasian Affairs and in accordance with 561(c) and (d).

Programs directed towards the municipalities of Bijeljina, Han Pijesak, Pale, and Sokolac in the Republika Srpska are excluded from this waiver because competent authorities there have helped to provide protection and support to war crimes indictees. Were the U.S. Government to determine at a future date that assistance projects that could benefit these municipalities merited consideration, these activities would be subject to a separate waiver determination.

This Determination shall be reported to the Congress and published in the Federal Register.

Dated: February 9, 2006.
Condoleezza Rice,
Secretary of State, Department of State.

[FR Doc. E6-3132 Filed 3-3-06; 8:45 am]

BILLING CODE 4710-23-P